LEGAL SERVICES CORPORATION

Sunshine Act Meeting of the Board of Directors Committee on Provision for the Delivery of Legal Services

Time and Date: The Committee on Provision for the Delivery of Legal Services of the Legal Services Corporation Board of Directors will meet on January 18, 2002. The meeting will begin at 10 a.m. and continue until the Committee concludes its agenda.

Location: Hilton Alexandria Mark Center, 5000 Seminary Road, Alexandria, Virginia.

Status of Meeting: Open.

Matters To Be Considered

1. Approval of agenda.

2. Approval of the minutes of the Committee's meeting of September 7, 2001.

3. A Panel Presentation by Anh Tu, Michelle DeBord (Executive Director, Mid-Pennsylvania Legal Services), Larry Harley (Executive Director, Southwest Virginia Legal Aid Society), Martin Wegbreit (Managing Attorney, Southwest Virginia Legal Aid Society), Alma Jones (Executive Director, Legal Services of North Louisiana), and Ramon Arias (Executive Director, Bay Area Legal Aid) on the Problems Experienced by Programs and Executive Directors Once the Technical Aspects of “Merger” are Completed and the Real Work of Developing and Sustaining a High-Quality Legal Services Program Begins.

4. A report by Michael Genz and Robert Gross on the progress of the Programs Office's performance in terms of the goals outlined in the “Strategic Directions.”

5. A report by Reginald Haley and Barbara Donnelly on the action agenda that LSC will pursue in 2002 as an outgrowth of the Hershey Client Conference.

6. A report by Patricia Hanrahan on the action agenda that LSC will pursue in 2002 as an outgrowth of our 2001 conversations on Diversity and Leadership.

7. Consider and act on other business.

8. Public comment.

Contact Person for Information: Victor M. Fortuno, Vice President for Legal Affairs, General Counsel & Secretary of the Corporation, at (202) 336-8800.

Special Needs: Upon request, meeting notices will be made available in alternate formats to accommodate visual and hearing impairments. Individuals who have a disability and need an accommodation to attend the meeting may notify Elizabeth S. Cushing, at (202) 336-8800.

Dated: January 11, 2002.
Victor M. Fortuno,
Vice President for Legal Affairs, General Counsel & Corporate Secretary.

[FR Doc. 02-1183 Filed 1-11-02; 3:54 pm]

BILLING CODE 7050-01-P